CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning a self assessment tool: “My Improvement Plan”. This is a tool we are planning on launching in conjunction with new rules for AmeriCorps. “My Improvement Plan,” is designed to strengthen the Corporation's accountability in cost effectively developing grantee core management competencies (such as financial and grants management, resource and fund development, performance measurement and evaluations, etc.) and achieving targeted results.

DATES: Written comments must be submitted to the individual and office listed in the ADDRESSES section by May 13, 2005.

ADDRESSES: You may submit comments, identified by the title of the information collection activity, by any of the following methods:

(1) By mail sent to: Corporation for National and Community Service, Office of Leadership Development and Training; Attention Mr. David Bellama, Associate Director, Room 9623; 1201 New York Avenue, NW., Washington, DC 20525.

(2) By hand delivery or by courier to the Corporation's mailroom at Room 6010 at the mail address given in paragraph (1) above, between 9 a.m. and 4 p.m. Monday through Friday, except Federal holidays.

(3) By fax to: (202) 208-4151, Attention Mr. David Bellama, Associate Director.

(4) Electronically through the Corporation's e-mail address system: dbellama@cns.gov.

FOR FURTHER INFORMATION CONTACT: David Bellama, (202) 606-5000, ext. 483, or by e-mail at dbellama@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background: Since mid-2003, the Corporation has invested heavily in developing this program management tool in collaboration with ETR Associates and the RGK Center for Philanthropy and Community Service at the University of Texas. “My Improvement Plan” is a valid and reliable assessment tool targeted for use by all CNCS grantees. Individuals working with the Corporation's AmeriCorps, Senior Corps and Learn and Serve programs will complete competence self-assessment questions on-line, generate their individual learning plans and be linked to relevant training and technical assistance (T/TA) resources. Individual responses will be anonymous. However, the system will aggregate user responses nationally and by state. This tool will drive the Corporation's knowledge management system, enabling program officers and T/TA providers to assess grantee needs, target and deliver T/TA, track and report on users' progress in acquiring core competencies. The development of these core competencies will enable grantees to meet the Corporation's compliance requirements and build service organizations that deliver projected results.

The tool will be available online at http://www.nationalservice.org/resources for use by grantees and interested members of the public. Users will complete the tool online and will be provided with a report on their overall strengths and weaknesses. Online T/TA tools will be suggested for their use. We plan to fully utilize the tool's capacity for aggregating state-wide, regional and national level data on grantee T/TA needs and progress. This data will be used to analyze the overall strengths and weaknesses of grantee projects in order to better focus T/TA efforts and maximize return on T/TA investment.

Current Action: The Corporation is seeking approval of the self assessment tool entitled My Improvement Plan: A Self Assessment Tool for Project Management. The self assessment tool consists of a pre-assessment tool and questions relating to 10 building blocks. The pre-assessment tool has 36 screening questions that help users determine the building blocks they should address. The building blocks cover the following topics: Board and advisory leadership, organizational culture, community collaboration, program accountability, financial management, staffing and management, marketing and communication, infrastructure, volunteer management, and service-learning.

Type of Review: New.

Agency: Corporation for National and Community Service.

Title: My Improvement Plan: A Self Assessment Tool for Project Management.

OMB Number: None.

Agency Number: None.

Affected Public: Current grantees and interested public.

Total Respondents: 4,000.

Frequency: Once a year.

Average Time Per Response: 3 minutes.

Estimated Total Burden Hours: 12,000 hours per year.

Total Burden Cost (capital/startup): None.

Total Burden Cost (operating/maintenance): None.

Comments submitted in response to this notice will be summarized and/or included in the request for Office of Management and Budget approval of the information collection request; they will also become a matter of public record.

Dated: March 8, 2005.
Gretchen Van Der Veer,
Director, Office of Leadership Development and Training.

[FR Doc. 05-4898 Filed 3-11-05; 8:45 am]

BILLING CODE 6050-$$-P